NATIONAL INSTITUTE FOR LITERACY

Waiver for the Literacy Information and Communication (LINCS) Resource Collections and Regional Resource Centers

AGENCY: National Institute for Literacy.

ACTION: Notice of waiver for the Literacy Information and Communication (LINCS) Resource Collections and Regional Resource Centers.

SUMMARY: The Acting Director waives the requirements in 34 CFR 75.261(c)(2) of the Education Department General Administrative Regulations (EDGAR) that generally prohibit the extension of grants beyond the expiration date when the extension requires additional Federal funds or the extension involves any change in the approved activities under the project. These waivers would enable the current eligible grantees under LINCS to apply for and continue to receive Federal funding beyond the original 36-month period of performance established in the grant application notices published in the Federal Register at 71 FR 43628 and 71 FR 44716 and in their grant award notices.

DATES: This notice is effective July 6, 2009.

FOR FURTHER INFORMATION CONTACT: Daniel J. Miller, U.S. Department of Education, 400 Maryland Avenue, SW., room 11146, Potomac Center Plaza, Washington, DC 20202-7242. Telephone: (202) 245-7731.

If you use a telecommunications device for the deaf (TDD), you may call the Federal Relay Service (FRS) at 1-800-877-8339.

Individuals with disabilities may obtain this document in an alternative format (e.g., Braille, large print, audiotape, or computer diskette) by requesting it from the contact person listed under FOR FURTHER INFORMATION CONTACT.

SUPPLEMENTARY INFORMATION:

Background and Waiver of 34 CFR 75.261(c)(2)

Title II of the Workforce Investment Act of 1998 (Pub. L. 105-220), commonly known as the Adult Education and Family Literacy Act (AEFLA), established the National Institute for Literacy (NIFL or Institute) to provide national leadership on literacy, coordinate literacy services and policy, and serve as a national resource for adult education and literacy programs by providing the best and most current information in the area of phonemic awareness, systematic phonics, fluency, and reading comprehension, and supporting the creation of new ways to offer services of proven effectiveness. [20 U.S.C. 9252(a)]. The Institute is administered under the terms of an interagency agreement entered into by the Secretaries of Education (ED), Labor (DOL), and Health and Human Services (HHS) (the Interagency Group), and seeks and receives advice on its operations from its Presidentially appointed Advisory Board. The Institute coordinates its work with the member agencies of the Interagency Group to avoid duplication and maximize the results of the agencies' investments and efforts in literacy services and policy.

The Institute's responsibilities include establishing a national electronic database of information that disseminates information to the broadest possible audience within the literacy and basic skills field and a communication network for literacy programs, providers, social service agencies, and students. 20 U.S.C. 9252(c)(1)(A). To carry out these responsibilities, the Institute awarded three LINCS Regional Resource Centers grants on September 29, 2006, and three LINCS Resource Collections grants on September 26, 2009. The project period for these grants ends on September 30, 2009, and the Institute would normally conduct a new competition to continue to fund the activities supported by these grants.

The administration is not requesting funds for the Institute in fiscal year (FY) 2010 and has proposed that the Office of Vocational and Adult Education (OVAE), which administers both the Adult Education State Grant program and the Adult Education National Leadership Activities in ED, absorb the resources formerly appropriated to the Institute. Congress is now in the process of reauthorizing the Workforce Investment Act, and, pending final decisions about the future of the Institute and its programs, the Institute does not believe that it would be in the public interest to hold new competitions for the LINCS grants until after Congress has concluded that process.

Therefore, to avoid a lapse in the availability of services provided by current LINCS grantees, the Institute waives the requirements in 34 CFR 75.261(c)(2), which prohibit the extension of grants beyond the initial period of performance if the extension requires additional Federal funds and/or if the extension involves any changes in the approved activities under the project. The Institute is waiving these requirements in order to be able to continue to fund current, eligible LINCS grantees with FY 2009 funds. The Institute's waiver of these requirements and continued funding of the current LINCS grants would extend for as long as Congress continues to appropriate funds for the existing program authority under 20 U.S.C. 9252 and possibly during a transition to any new program authorities that might be created in the reauthorization of the Workforce Investment Act. The waivers would not affect any other legal provisions governing the grants to the current, eligible LINCS grantees, including the requirements applicable to continuation awards that were established in our August 1, 2006 and August 7, 2006 Federal Register notices (71 FR at 44717 and 71 FR at 43628), and the requirements in 34 CFR 75.253 concerning continuation awards.

The waiver of 34 CFR 75.261(c)(2) does not exempt current LINCS grantees from the account closing provisions of 31 U.S.C. 1552(a), nor does it extend the availability of funds previously awarded to current LINCS grantees. As a result of 31 U.S.C. 1552(a), appropriations available for a limited period may be used for payment of valid obligations for only five years after the expiration of their period of availability for Federal obligation. After that time, the unexpended balance of those funds is canceled and returned to the U.S. Treasury Department and is unavailable for restoration for any purpose.

Regulatory Flexibility Act Certification

The Acting Director certifies that this notice of waiver will not have a significant economic impact on a substantial number of small entities.

The entities that would be affected by these waivers are:

(a) The current LINCS grantees;

(b) Public and private agencies or institutions, or non-profit organizations with knowledge and expertise in adult basic education and literacy; and,

(c) consortia of such agencies, institutions, or organizations.

The Acting Director certifies that the waivers would not have a significant economic impact on these entities because the waivers and the activities required to support the additional year of funding would not impose excessive regulatory burdens or require unnecessary Federal supervision. The waivers would impose minimal requirements to ensure the proper expenditure of program funds, including requirements that are standard for continuation awards.

Paperwork Reduction Act of 1995

This notice of waiver does not contain any information collection requirements.

Intergovernmental Review

The LINCS grants are subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for this program and these grants.

Electronic Access to This Document

You may view this document, as well as all other Department of Education documents published in the Federal Register, in text or Adobe Portable Document Format (PDF) on the Internet at the following site: http://www.ed.gov/new/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 9295.

Dated: June 29, 2009.
Daniel J. Miller,
Acting Director, National Institute for Literacy.

[FR Doc. E9-15728 Filed 7-2-09; 8:45 am]

BILLING CODE 6055-01-P